U.S.-CHINA ECONOMIC AND SECURITY REVIEW COMMISSION

Notice of Open Public Hearing

AGENCY: U.S.-China Economic and Security Review Commission.

ACTION: Notice of open public hearing—March 31, 2016, Washington, DC.

SUMMARY: Notice is hereby given of the following hearing of the U.S.-China Economic and Security Review Commission.

Name: Dennis Shea, Chairman of the U.S.-China Economic and Security Review Commission. The Commission is mandated by Congress to investigate, assess, and report to Congress annually on “the national security implications of the economic relationship between the United States and the People's Republic of China.” Pursuant to this mandate, the Commission will hold a public hearing in Washington, DC on Thursday, March 31, 2016 on “China and the U.S. Rebalance to Asia.”

Background: This is the fourth public hearing the Commission will hold during its 2016 report cycle to collect input from academic, industry, and government experts on national security implications of the U.S. bilateral trade and economic relationship with China. This hearing will examine the origins, implementation, and impacts of the U.S. “Rebalance to Asia” strategy, now in its fourth year. It will assess the reactions of China and other regional countries to the Rebalance, and evaluate areas of strength and weakness. The hearing will also explore what objectives and policies will best serve U.S. regional interests moving into a new Administration. The hearing will be co-chaired by Vice Chairman Carolyn Bartholomew and Senator James Talent. Any interested party may file a written statement by March 31, 2016, by mailing to the contact below. A portion of each panel will include a question and answer period between the Commissioners and the witnesses.

Location, Date and Time: Room: G-50, Dirksen Senate Office Building. Thursday, March 31, 2016, 9:00 a.m. to 2:50 p.m.. A detailed agenda for the hearing will be posted to the Commission's Web site at www.uscc.gov. Also, please check our Web site for possible changes to the hearing schedule. Reservations are not required to attend the hearing.

FOR FURTHER INFORMATION CONTACT: Any member of the public seeking further information concerning the hearing should contact Anthony DeMarino, 444 North Capitol Street NW., Suite 602, Washington, DC 20001; phone: 202-624-1496, or via email at ademarino@uscc.gov. Reservations are not required to attend the hearing.

Authority: Congress created the U.S.-China Economic and Security Review Commission in 2000 in the National Defense Authorization Act (Pub. L. 106-398), as amended by Division P of the Consolidated Appropriations Resolution, 2003 (Pub. L. 108-7), as amended by Public Law 109-108 (November 22, 2005), as amended by Public Law 113-291 (December 19, 2014).

Dated: March 17, 2016.
Michael Danis,
Executive Director, U.S.-China Economic and Security Review Commission.

[FR Doc. 2016-06529 Filed 3-22-16; 8:45 am]

BILLING CODE 1137-00-P